DEPARTMENT OF EDUCATION

[CFDA Nos.: 84.170; 84.200]

Graduate Assistance in Areas of National Need (GAANN) and Jacob K. Javits Fellowship Program (JKJ)

AGENCY: Office of Postsecondary Education, Department of Education.

ACTION: Notice inviting applications for new awards for fiscal year (FY) 2001; clarification.

SUMMARY: On September 11, 2000 we published in the Federal Register Notices Inviting Applications for New Awards for FY 2001 for the GAANN and JKJ fellowship programs. (GAANN at 65 FR 54844 and JKJ at 65 FR 54843). The notices announced that the Secretary would determine both the GAANN and JKJ fellowship stipend levels for the academic year 2001-2002 based on the level of support provided by the National Science Foundation (NSF) graduate fellowships, with adjustments as necessary to ensure that the amount would not exceed the fellow's demonstrated level of financial need.

This notice is to clarify that the Secretary will make the determination of the stipend levels for both GAANN and JKJ fellowships by using the level of the NSF stipend level for the Graduate Research Fellowship Program as of February 1, 2001.

FOR FURTHER INFORMATION CONTACT: For GAANN: Cosette H. Ryan, Graduate Assistance in Areas of National Need Program, U.S. Department of Education, 1900 K Street, NW., 6th Floor, Washington, DC 20006-8521. Telephone: (202) 502-7637. The e-mail address for the GAANN Program is: ope_gaann_program@ed.gov

For JKJ: Carolyn Proctor, Jacob K. Javits Fellowship Program, U.S. Department of Education, International Education and Graduate Programs Service, 1990 K Street, NW., Suite 6000, Washington DC 20006-8521. Telephone: (202) 502-7542. The e-mail address for the JKJ Program is: ope_javits_program@ed.gov

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at either of the following sites:

http://ocfo.ed.gov/fedreg.htm

http://www.ed.gov/news.html

To use PDF you must have the Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1134-1134d and 1135-1135e.

Dated: December 12, 2000.
A. Lee Fritschler,
Assistant Secretary, Office of Postsecondary Education.

[FR Doc. 00-32198 Filed 12-18-00; 8:45 am]

BILLING CODE 4000-01-U